DEPARTMENT OF THE INTERIOR

Fish and Wildlife Service

Information Collection Submitted to the Office of Management and Budget (OMB) for Approval Under the Paperwork Reduction Act; Alaska Subsistence Household Survey

AGENCY: Fish and Wildlife Service, Interior.

ACTION: Notice; request for comments.

SUMMARY: The U.S. Fish and Wildlife Service has submitted the collection of information listed below to OMB for approval under the provisions of the Paperwork Reduction Act. If you wish to obtain copies of the proposed information collection requirement, related forms, or explanatory material, contact the Service Information Collection Officer at the address listed below.

DATES: We will accept comments until September 2, 2003.

ADDRESSES: Submit your comments on this information collection to the Desk Officer for the Department of the Interior at OMB-OIRA via facsimile or e-mail using the following fax number or e-mail address: (202) 395-5806 (fax); ruth_solomon@omb.eop.gov (e-mail). Please provide a copy of your comments to the Fish and Wildlife Service's Information Collection Officer, 4401 N. Fairfax Dr., MS 222 ARLSQ, Arlington, VA 22207; (703) 358-2269 (fax); or anissa_craghead@fws.gov (e-mail).

FOR FURTHER INFORMATION CONTACT: To request a copy of the information collection request, explanatory information, or related forms, contact Anissa Craghead by phone at (703) 358-2445 or by e-mail at anissa_craghead@fws.gov.

SUPPLEMENTARY INFORMATION: The Office of Management and Budget (OMB) regulations at 5 CFR 1320, which implement provisions of the Paperwork Reduction Act of 1995 (44 U.S.C. 3501 et seq.), require that interested parties and affected agencies have an opportunity to comment on information collection and recordkeeping activities (see CFR 1320.8(d)). The U.S. Fish and Wildlife Service (we, or the Service) has submitted a request to OMB for approval of a collection of information related to the subsistence migratory bird harvest in Alaska. We are requesting a 3-year term of approval for this collection activity. Federal agencies may not conduct or sponsor, and a person is not required to respond to, a collection of information unless it displays a currently valid OMB control number.

The Migratory Bird Treaty Act (16 U.S.C. 703-711) and the Fish and Wildlife Act of 1956 (16 U.S.C. 742d) designate the Department of the Interior as the key agency responsible for the management of migratory bird populations frequenting the United States and for the setting of harvest regulations that allow for the conservation of those populations. These responsibilities include gathering accurate geographical and temporal data on various characteristics of migratory bird harvest. We use that data to promulgate harvest regulations. Annually, we adjust harvest regulations as needed to provide a maximum of subsistence harvest opportunity while keeping migratory bird populations at desired levels.

The Migratory Bird Treaty Act Protocol Amendment (1995) (Amendment) provides for the customary and traditional use of migratory birds and their eggs for subsistence use by indigenous inhabitants of Alaska. The Amendment, however, states that it is not the intent of the Amendment to cause significant increases in the take of species of migratory birds relative to their continental population sizes. A May 20, 1996, letter of submittal from the Department of State to the White House, which officially accompanied the Amendment, specifies the need for harvest monitoring and states that harvest estimates will be collected cooperatively by the Service, the State Department of Fish and Game, and Native organizations within the subsistence eligible areas. Harvest survey data help ensure that customary and traditional use of migratory birds and their eggs for subsistence use by indigenous inhabitants of Alaska does not significantly increase the take of species of migratory birds relative to their continental population sizes.

We have monitored the subsistence harvest in Alaska for the past 14 years through the use of annual household surveys in the most heavily used subsistence harvest areas (e.g., Yukon-Kuskokwim Delta). Continuation of this monitoring would enable tracking of any significant changes or trends in levels of harvest and user participation after legalization of the harvest. The harvest survey method and forms that we used to collect information were not approved by OMB. We are requesting that OMB approve these forms and that the public comment on this information collection. We will not conduct or sponsor any surveys until we obtain OMB approval of this information collection.

This collection helped, and would help, us gather information on the annual subsistence harvests of 49 species of birds, including geese, ducks, swans, cranes, loons, seabirds, shorebirds, and upland game birds. The survey was, and would be, conducted by local village resident surveyors in the subsistence-eligible areas of Alaska, under the guidance of Service employees and contractors (such as Alaska Native organizations and the Alaska Department of Fish and Game). The local village surveyors annually provided, and would provide, us lists of all households in each village. Randomly selected households then received, and would receive, survey forms from the village surveyor. The household either completed, and would complete, the form independently, or the village surveyor helped, and would help, the household complete the form. Forms were then, and would be, turned in to us. The resulting estimates of harvest per household were, and would be, combined with the complete list of households in the subsistence-eligible areas to provide estimates of the total annual harvest of the 49 species of birds.

On March 3, 2003, we published in the Federal Register (68 FR 10024) a notice informing the public that we plan to request OMB approval under the Paperwork Reduction Act of the forms described. We requested public comment on the information collection for 60 days, ending May 2, 2003. By that date we did not receive any comments. This notice provides an additional 30 days in which to comment on the following information.

Title: List of All Occupied Households, with Hunting Category Noted.

Approval Number: 1018-xxxx.

Form number: 7-FW-100.

Frequency of Collection: Once per year.

Description of Respondents: Local village surveyors.

Total Annual Responses: 188. We estimate one form for each of the 188 communities, which amounts to 188 forms annually.

Total Annual Burden Hours: 433 hours. We estimate the reporting burden at one minute for each of the total 26,000 households in 188 communities, or 433 hours total.

Note: This form is maintained by the local village surveyor. This form does not record, nor is it arranged or retrieved, by personal identifier.

Title: Households Separated by Hunting Category.

Approval Number: 1018-xxxx.

Form number: 7-FW-101.

Frequency of Collection: Once per year.

Description of Respondents: Local village surveyors.

Total Annual Responses: 188. We estimate one form for each of the 188 communities, which amounts to 188 forms annually.

Total Annual Burden Hours: 94 hours. We estimate it takes each surveyor an average of one-half hour to transfer the information from Form 7-FW-100 to Form 7-FW-101. With an estimated 188 surveyors in up to 188 communities, we estimate 94 hours total annual burden.

Note: The local village surveyor provides this form to us. This form does not record, nor is it arranged or retrieved, by personal identifier.

Title: Permission slip for participation in the survey.

Approval Number: 1018-xxxx.

Form number: 7-FW-102.

Frequency of Collection: Once per year.

Description of Respondents: Households within the subsistence eligible areas of Alaska (50 CFR Part 92.5).

Total Annual Responses: 16,000. We estimate up to 13,000 of the approximately 26,000 households in the subsistence eligible areas will participate in the survey. Up to 16,000 households will have to be asked permission in order to get a sample size of 13,000 households.

Total Annual Burden Hours: 1,333 hours. It will take the surveyor an average of 5 minutes per household to determine whether or not that household agrees to participate in the subsistence harvest survey. With an estimated 16,000 households responding to the permission slip, this amounts to 1,333 hours total annual burden.

Note: This form is maintained by the local village surveyor. The surveyor asks each household if that household will participate in the subsistence harvest survey. The surveyor then notes a “yes” or a “no” on a permission slip. Each household with a “yes” permission slip is given a survey form (described below). This form does not record, nor is it arranged or retrieved, by personal identifier.

Title: Migratory Bird Subsistence Harvest Household Survey.

Approval Number: 1018-xxxx.

Form number: 7-FW-103.

Frequency of Collection: Three times per year—spring, summer, and fall.

Description of Respondents: Households within the subsistence eligible areas of Alaska (50 CFR Part 92.5).

Total Annual Responses: 39,000. We estimate up to 13,000 of the approximately 26,000 households in the subsistence eligible areas will participate in the survey, responding three times annually.

Total Annual Burden Hours: 3,250 hours. We estimate the reporting burden to average 5 minutes per respondent for the Migratory Bird Subsistence Harvest Household Survey. With an estimated 13,000 respondents filling out the form three times annually, the annual burden hours total 3,250 hours.

Note: The local village surveyor provides completed survey forms to us. The survey form consists of three pages, one page each for spring, summer, and fall. Each page has 51 bird illustrations, with spaces beside each illustration to mark down numbers of birds and eggs taken. This form does not record, nor is it arranged or retrieved, by personal identifier; the household number is written on each page of the survey form, along with a village number. The results of this annual survey help us understand the effect of subsistence hunting on migratory bird populations, while also evaluating the effects of newly established spring/summer season dates, species closures, and methods and means prohibitions.

We again invite comments on this proposed information collection on the following: (1) Whether the collection of information is necessary for the proper performance of the function of the agency, including whether the information will have practical utility; (2) the accuracy of our estimate of the burden of the collection of information; (3) ways to enhance the quality, utility, and clarity of the information to be collected; and (4) ways to minimize the burden of the collection on respondents.

Dated: July 28, 2003.
Anissa Craghead,
Information Collection Officer, Fish and Wildlife Service.

[FR Doc. 03-19490 Filed 7-30-03; 8:45 am]

BILLING CODE 4310-55-P